DEPARTMENT OF HOUSING AND URBAN DEVELOPMENT

[Docket No. FR-5220-N-03]

Notice of Funding Availability (NOFA) for the Continuum of Care Homeless Assistance Program: Technical Corrections

AGENCY: Office of the Assistant Secretary for Community Planning and Development, HUD.

ACTION: Notice of Funding Availability (NOFA).

SUMMARY: On July 10, 2008, HUD published the NOFA for the Continuum of Care (CoC) Homeless Assistance Program. Through this NOFA, HUD is making available approximately $1.42 billion in Fiscal Year (FY) 2008 for the CoC program. The purpose of the CoC program is to reduce the incidence of homelessness in communities by assisting homeless individuals and families to move to self sufficiency and permanent housing. On August 13, 2008, HUD published a notice that established the deadline date for the submission of applications and corrected or clarified portions of the CoC NOFA. Today's publication clarifies the CoC NOFA regarding the projects subject to the calculation for housing emphasis points. Today's publication also moves the deadline date for the submission of applications.

FOR FURTHER INFORMATION CONTACT: Individuals may direct questions regarding the CoC NOFA to the HUD Field Office serving their area, at the telephone numbers shown in HUD's FY2008 Notice of Funding Availability (NOFA); Policy Requirements and General Section to HUD's FY2008 NOFAs for Discretionary Programs (General Section) published on March 19, 2008 (73 FR 14883), or may contact the e-snaps Help Desk at 1-877-6esnaps (1-877-637-6277). Individuals who are hearing- or speech-impaired should use the Information Relay Service at 1-800-877-8339. These are toll-free numbers.

SUPPLEMENTARY INFORMATION: On April 30, 2008 (73 FR 23483), HUD published its Notice of FY2008 Opportunity to Register and Other Important Information for Electronic Application Submission for Continuum of Care Homeless Assistance Programs (CoC Early Registration Notice). The CoC Early Registration Notice alerted the public that HUD would require Continuums of Care to submit applications electronically, using e-snaps, an electronic system separate from Grants.gov. On July 10, 2008 (73 FR 39840), HUD published its CoC NOFA, making available approximately $1.42 billion in FY 2008 for the CoC program. The purpose of the CoC program is to reduce the incidence of homelessness in communities by assisting homeless individuals and families to move to self sufficiency and permanent housing. In the July 10, 2008, CoC NOFA, HUD stated that the application portion of the e-snaps system had not yet been launched and that HUD, as a result, was unable to establish a due date for the FY2008 CoC competition. HUD stated, however, that it would announce the application due date for the program through a separate Federal Register notice. On August 13, 2008 (73 FR 47205), HUD published a notice establishing the deadline date for the submission of applications and correcting or clarifying portions of the CoC NOFA published on July 10, 2008.

Today's publication clarifies the CoC NOFA regarding the projects subject to the calculation for housing emphasis points. Today's publication also moves the deadline date for applications to Thursday, October 16, 2008.

Clarifications to Application Instructions and/or Minor Technical Changes

Because e-snaps is a new application system, it may be necessary to make clarification to instructions and/or minor technical changes to the system based on feedback from users. Any changes of this type will be communicated to Continuum of Care users and stakeholders via the Homeless Assistance Listserv and will be posted on the Homelessness Resource Exchange e-snaps training page and/or Frequently Asked Questions page. To join the listserv go to the HUD Web site at: http://www.hud.gov/subscribe/signup.cfm?listname=Homeless%20Assistance%20Program&list. The e-snaps training page on the Homelessness Resource Exchange can be accessed at: http://www.hudhre.info/esnaps/.

Deadline for Applications

The application deadline date for the CoC NOFA is extended to Thursday, October 16, 2008. Electronic applications must be received by e-snaps by 4 p.m. eastern time on the deadline date. HUD will close e-snaps at 4:01 p.m. eastern time. Similarly, paper applications from applicants granted a waiver from the electronic application submission requirement must be received by HUD by 4 p.m. eastern time on the deadline date.

Summary of Technical Corrections

On July 10, 2008 (73 FR 39839) HUD published its NOFA for the CoC Program. As discussed in this technical correction notice, HUD is moving the deadline date for applications to provide applicants additional time to submit their applications. HUD is also, by this notice, clarifying the CoC NOFA regarding the projects subject to the calculation for housing emphasis points.

Accordingly, on page 39840, Overview Information, Section F., first column, entitled “Dates,” HUD is revising this section to read as follows:

F. Dates: The application deadline date for the CoC NOFA is Thursday, October 16, 2008. Electronic applications must be received by e-snaps by 4 p.m. eastern time on the deadline date. HUD will close e-snaps at 4:01 p.m. eastern time. Similarly, paper applications from applicants granted a waiver from the electronic application submission requirement must be received by HUD by 4 p.m. eastern time on the deadline date.

At page 39851, revise section V.1.e., third column, to read as follows:

e. Emphasis on Housing Activities: HUD will award 18 points based on the relationship between funds requested for housing activities (i.e., transitional and permanent) and funds requested for supportive service activities. Housing emphasis will be calculated on eligible new and renewal projects within FPRN, eligible Samaritan Housing Initiative projects, eligible Rapid Re-Housing for Families Demonstration Program projects, and eligible S+C renewal projects. HUD will count as a housing activity all approvable requests for funds for rental assistance and approvable requests for acquisition, rehabilitation, construction, leasing and operations when used in connection with housing. HMIS costs and administrative costs will be excluded from this calculation. CoCs are not required to have 100 percent housing activities to receive the full 18 points for these scoring criteria.

Dated: September 9, 2008.
Susan D. Peppler,
Assistant Secretary for Community Planning and Development.

[FR Doc. E8-21493 Filed 9-12-08; 8:45 am]

BILLING CODE 4210-67-P